DEPARTMENT OF DEFENSE

Department of the Navy

Record of Decision for the Yuma Training Range Complex, Arizona and California

AGENCY: Department of the Navy, DOD.

ACTION: Notice.

SUMMARY: Pursuant to section 102(c) of the National Environmental Policy Act (NEPA) of 1969, and the Council on Environmental Quality regulations (40 CFR parts 1500-1508), the Department of the Navy has reevaluated the potential for cumulative effects on Sonoran pronghorn in a Supplemental Environmental Impact Statement (SEIS) and announces its decision to continue upgrading the capability of the Yuma Training Range Complex (YTRC).

ADDRESSES: Questions regarding the SEIS prepared for this action may be directed to Commander, Southwest Division, Naval Facilities Engineering Command, 1220 Pacific Highway, San Diego, CA 92132-5190 (Attn: Ms. Deb Theroux).

FOR FURTHER INFORMATION CONTACT: Ms. Deb Theroux, telephone (619) 532-1162.

SUPPLEMENTARY INFORMATION: The Marine Corps completed an Environmental Impact Statement (EIS) in 1997 addressing its military aviation and associated training impacts on the YTRC. This Complex includes portions of the Barry M. Goldwater Range, AZ, which contains habitat for the Sonoran pronghorn (Antilocapra americana sonoriensis), an endangered species.

On February 12, 2001, the United States District Court for the District of Columbia found the cumulative impact analysis in the 1997 YTRC EIS deficient in that it failed to provide sufficient analysis of cumulative impacts on the Sonoran pronghorn in accordance with 40 CFR 1508.7. The court remanded the matter to the Marine Corps for further consideration of such impacts. The court also found the Biological Opinion rendered by the U.S. Fish and Wildlife Service (USFWS) pursuant to section 7 of the Endangered Species Act addressing actions described in the 1997 EIS deficient in that it failed to provide sufficient analysis of cumulative impacts on the Sonoran pronghorn. The court remanded the Biological Opinion to USFWS for further consideration of such impacts.

The Department of the Navy prepared a supplement to the EIS, in accordance with 40 CFR 1502.9(c), that evaluates the cumulative impacts on the Sonoran pronghorn of Marine Corps actions when added to other past, present, and reasonably foreseeable future actions regardless of what agency or person undertakes such other actions. Also, USFWS reissued the Biological Opinion addressing upgrade of the YTRC based in part on new information provided by the Marine Corps developed during preparation of the SEIS.

Based upon the new Biological Opinion issued by the USFWS and the analysis of cumulative effects in the Supplemental EIS, the Department of the Navy has determined there is no need to amend the actions selected for implementation in the Record of Decision published in the Federal Register on October 2, 1998. Actions approved in this decision will continue to be implemented as funds become available. However, additional mitigation measures identified in the Biological Opinion and Final SEIS will be made a part of the approved actions. Therefore, the October 2, 1998, Record of Decision is modified, as discussed in the following paragraphs, to address the cumulative effects analysis discussed in the SEIS and incorporate additional mitigation measures.

Cumulative Effects and Other Actions Considered

Cumulative effects are those additive or interactive effects that would result from the incremental impact of the proposed actions when added to other past, present, and reasonably foreseeable future actions regardless of what agency (federal or non-federal) or person undertakes such other actions. In accordance with the Court's order, the purpose of the SEIS is limited to a reconsideration of the cumulative impacts of the proposed actions and alternatives examined in the YTRC FEIS together with other relevant past, present, and reasonably foreseeable future actions on Sonoran pronghorn.

Through coordination with agencies operating within and having management responsibilities in the region within the current distribution of Sonoran pronghorn, 68 past, present, and reasonably foreseeable future actions were identified. Examples of other actions considered included past mining and ranching, transportation and utility corridors, recreation, agriculture, scientific research, patrol for undocumented aliens, military activities conducted by the Air Force and other branches of service, and proposed residential developments.

All of the YTRC alternatives as well as the 68 other past, present, and reasonably future actions were evaluated using criteria derived from the five delisting factors established in the Endangered Species Act. The evaluation criteria included the following:

—Habitat loss or curtailment, including barriers or impediments to movement or access to habitat.

—Habitat modification or diminished quality of habitat, including habitat fragmentation and degraded air quality.

—Overutilization (e.g., hunting and research activities) of Sonoran pronghorn.

—Disease and predation, including the potential of increasing predator populations or opportunities for predators to prey on Sonoran pronghorn.

—Management or regulatory conflicts.

—Death or injury of Sonoran pronghorn, including potential death or injury from collisions with vehicles, and munitions delivery or detonations.

—Harassment of Sonoran pronghorn, including surface vehicles, human presence, surface noise sources, overflight noise, and visual presence of aircraft.

—Diminished fawn recruitment.

—Exposure to toxic substances or materials, including toxins found in forage plants or surface water and exposure to harmful radio frequency energy.

In addition, actions in the region (including those within the Chocolate Mountain Range), but outside of the current distribution area of the Sonoran pronghorn, were evaluated for their potential to influence a change that could affect Sonoran pronghorn or its habitat. Actions in the region were also evaluated for their potential to result in an environmental effect that might be transported or transferred (for example, by water runoff or wind) into the current distribution area of the Sonoran pronghorn.

The following summarizes the SEIS findings of the analysis of the potential cumulative effects on Sonoran pronghorn resulting from the YTRC actions combined with and other past, present, and reasonably foreseeable future actions:

—The cumulative effects of past actions and climatic factors reduced the range and size of the Sonoran pronghorn population to its current endangered status. The limited range of this subspecies, its division into three isolated subpopulations, and its relatively small population size exacerbate effects of currently active factors.

—The Sonoran pronghorn is not threatened with further significant habitat loss or degradation as a result of current or reasonably foreseeable future actions.

—The timing, distribution, and abundance of rainfall—above all other currently active factors and activities—control the prospect for the long-term survival and potential recovery of the Sonoran pronghorn through the influence of precipitation patterns on the availability of adequate forage.

—A near-term threat to the continued survival of the Sonoran pronghorn without significant management intervention is the advancing age of its current population. More than half of the existing population will likely die over the next two to three years of advanced age factors even with favorable rainfall and forage production. Adequate rainfall and forage production is essential over this same period if the losses of older animals are to be offset by fawn recruitment.

—Sonoran pronghorn casualties have occurred as a result of the capture and radio-collaring program. However, the risks of death or injury of Sonoran pronghorn from munitions delivery training and vehicle use are manageable and have not posed significant incremental impacts on this subspecies.

—No cumulative impacts on the U.S. Sonoran pronghorn population were found to be occurring as a result of hunting, abnormal disease or predation rates induced by human activities, management or regulatory conflicts, or exposure to toxic substances or materials.

—Marine Corps air and surface activities within the BMGR, and within the restricted airspace overlying the Cabeza Prieta NWR have contributed some incremental, adverse effects to the overall cumulative impacts on Sonoran pronghorn. These effects, however, are of negligible magnitudes and none are significant.

Mitigation

The original 1997 YTRC FEIS includes ongoing procedures that the Marine Corps implements to help protect environmental resources and mitigation measures to be applied in response to implementation of the proposed actions. These mitigation measures shall continue to be implemented.

Based on the findings of the SEIS, the Marine Corps commits to implementing the following additional mitigation measures:

—In coordination with other federal agencies, the Marine Corps will study the potential effects of chaff on Sonoran pronghorn with an emphasis on the possible toxic conditions of chaff contamination in waters located on the Barry M. Goldwater Range and Cabeza Prieta National Wildlife Refuge. By the middle of fiscal year 2002, a study design will be provided to the USFWS for approval. If adverse effects are identified, the report on the study will include recommendations for reducing or eliminating adverse effects of chaff on Sonoran pronghorn. In coordination with the USFWS, the Marine Corps will implement the recommendations within two years of the date of the final report.

—The Marine Corps will support its fair share of the 51 management and research projects developed by the Sonoran Pronghorn Recovery Team to promote recovery of the subspecies. These projects may be conducted in coordination with other agencies. Projects will be implemented beginning in fiscal years 2002 and 2003 to the extent that funding is available.

—The Marine Corps will provide the USFWS Phoenix Ecological Services Office and the Cabeza Prieta National Wildlife Refuge with an annual monitoring report that provides information on the prior year's implementation progress for the mitigation measures described above as well as any terms and conditions or reasonable and prudent alternatives listed in the Biological Opinion. The report will also include the date and location of any Sonoran pronghorn observed by Marine Corps personnel, including observations of injured or dead Sonoran pronghorn. Reports that may be produced in association with implementation of the mitigation measures or the Biological Opinion will be appended to the annual monitoring report. The first annual report will be submitted by 1 March 2002.

—The Marine Corps will support closure of the Mohawk Valley area of BMGR—West to public use from 15 March to 15 July beginning in 2002 to reduce the potential for human disturbance of Sonoran pronghorn during the period that is critical to early fawn survival. The Marine Corps will also support the permanent closure of roads within this area that are not needed for administrative agency use. The roads selected for closures will be identified by 1 October 2002 through consultation with the USFWS and other agency partners participating in the ongoing development of the Barry M. Goldwater Range Integrated Natural Resources Management Plan. By 15 March 2003, routes will be signed, and permanently closed routes will be blocked with physical barriers. The Marine Corps will construct an interpretive kiosk at the entrance to Barry M. Goldwater Range on the road from Tacna. Text for the kiosk will be prepared in coordination with USFWS and will describe regulations for public use of the range.

Biological Opinion

As noted earlier, USFWS issued a new Biological Opinion addressing the YTRC upgrades. USFWS determined the action will not jeopardize the existence of the Sonoran pronghorn. USFWS believes low-level helicopter use should avoid areas of significant pronghorn use to minimize adverse effects from helicopters on the pronghorn and its habitat, particularly areas important for fawns and their mothers. Accordingly, USFWS issued two terms and conditions regarding low-level helicopter use: one low-level route utilized by helicopters over the Cabeza Prieta National Wildlife Refuge should be modified in order to further reduce impacts on the Sonoran pronghorn, all helicopters between March 15 and July 15 of year year, except those participating in the Weapons Tactics Instructors course, should remain west of the current range of the Sonoran pronghorn, or on designated transit routes, or above 1,000 feet above ground level. These terms and conditions will be implemented. USFWS anticipates that no more than 6 Sonoran pronghorns could be taken as an incidental result of the proposed action. The incidental take is expected to be in the form of harassment. This incidental take provision will be reviewed concurrent with subsequent reviews of the Barry M. Goldwater Range Integrated Natural Resources Management Plan. Said reviews are required every five years.

Conclusion

All practicable means to avoid or minimize environmental harm from implementing the upgrades to the YTRC have been considered. After considering the requirements of the Marine Corps, the potential environmental impacts of this action, social and economic concerns, and all comments received during the EIS process, I have determined that the decisions made pursuant to the 1997 YTRC FEIS shall proceed as discussed in the SEIS, and that Marine Corps actions to manage the western portion of the Barry M. Goldwater Range for military aviation activities, when added to other past, present, and reasonably foreseeable future actions, will not have cumulative significant impacts on the Sonoran pronghorn.

Dated: November 16, 2001.
Duncan Holaday,
Deputy Assistant Secretary of the Navy, (Installations and Facilities).

[FR Doc. 01-29276 Filed 11-21-01; 8:45 am]

BILLING CODE 3810-FF-P